DEPARTMENT OF HEALTH AND HUMAN SERVICES

National Institutes of Health

Center for Scientific Review; Amended Notice of Meeting

Notice is hereby given of a change in the meeting of the Center for Scientific Review Special Emphasis Panel, Fellowships: Sensory and Motor Neurosciences, Cognition and Perception June 30, 2025, 09:30 a.m. to July 01, 2025, 07:00 p.m., National Institutes of Health, Rockledge II, 6701 Rockledge Drive, Bethesda, MD 20892 which was published in the Federal Register on June 02, 2025, 90 FR 23342, Doc. No. 2025-09845.

This meeting is being amended to change the date from June 30, 2025-July 1, 2025, to July 29-July 30, 2025. The meeting is closed to the public.

Dated: June 2, 2025.
Sterlyn H. Gibson,
Program Specialist, Office of Federal Advisory Committee Policy.

[FR Doc. 2025-10337 Filed 6-5-25; 8:45 am]

BILLING CODE 4140-01-P